DEPARTMENT OF TRANSPORTATION

Maritime Administration

Meeting Notice—U.S. Marine Transportation System National Advisory Council

AGENCY: Maritime Administration, Department of Transportation.

ACTION: Notice of advisory council public meeting.

SUMMARY: The Maritime Administration (MARAD) announces a public meeting of its U.S. Marine Transportation System National Advisory Council (MTSNAC or Council) to discuss advice and recommendations it would like to provide to the U.S. Department of Transportation for consideration on the development of a National Maritime Strategy, integration of Marine Highways into the national transportation system and options to provide a steady and reliable funding mechanism for port infrastructure development.

DATES: The meeting will be held on Tuesday, December 1, 2015 from 10:00 a.m. to 4:00 p.m., Eastern Standard Time.

ADDRESSES: The meeting will be held at the U.S. Department of Transportation, Federal Motor Carrier Safety Administration, National Training Center, 1310 N. Courthouse Road, Suite 600, Arlington, VA 22201-2508.

FOR FURTHER INFORMATION CONTACT: Tretha Chromey, Acting Designated Federal Officer at (202) 366-1630 or MTSNAC@dot.gov or visit the MTSNAC Web site at http://www.marad.dot.gov/ports/marine-transportation-system-mts/marine-transportation-system-national-advisory-committee-mtsnac/.

SUPPLEMENTARY INFORMATION: The MTSNAC is a Federal advisory committee within MARAD that advises the U.S. Department of Transportation on issues related to the marine transportation system. The MTSNAC was originally established in 1999 and mandated in 2007 by the Energy Independence and Security Act of 2007. The MTSNAC operates in accordance with the provisions of the Federal Advisory Committee Act (FACA).

Agenda

The agenda will include: (1) Welcome, opening remarks and introductions; (2) MTSNAC members discussion on a National Maritime Strategy; (3) subcommittee updates and proposed recommendations and (4) public comment. The meeting agenda will be posted on the MTSNAC Web site at http://www.marad.dot.gov/ports/marine-transportation-system-mts/marine-transportation-system-national-advisory-committee-mtsnac/.

Public Participation

The meeting will be open to the public. Members of the public who wish to attend in person are asked to RSVP to MTSNAC@dot.gov with your name and affiliation no later than November 23, 2015, in order to facilitate entry and guarantee seating.

Services for Individuals with Disabilities: The public meeting is physically accessible to people with disabilities. Individuals requiring accommodations, such as sign language interpretation or other ancillary aids are asked to notify Ms. Tretha Chromey, at (202) 366-1630 or MTSNAC@dot.gov five (5) business days before the meeting.

Written comments: Persons who wish to submit written comments for consideration by the Council must email MTSNAC@dot.gov, or send them to Ms. Tretha Chromey, Acting Designated Federal Officer, Marine Transportation System National Advisory Council, 1200 New Jersey Avenue SE., W21-306, Washington, DC 20590 by November 23, 2015 to provide sufficient time for review. All other comments may be received at any time before or after the meeting.

Authority: 49 CFR part 1.93(a); 5 U.S.C. 552b; 41 CFR parts 102-3; 5 U.S.C. app. Sections 1-16.

* * * * *

By Order of the Maritime Administrator.
Dated: November 10, 2015.
T. Mitchell Hudson, Jr.,
Secretary, Maritime Administration.

[FR Doc. 2015-29193 Filed 11-16-15; 8:45 am]

BILLING CODE 4910-81-P